DEPARTMENT OF TRANSPORTATION

Research and Special Programs Administration

49 CFR Part 193

[Docket No. RSPA-03-14456; Notice 1]

RIN 2137-AD80

Pipeline Safety: Liquefied Natural Gas Facilities: Clarifying and Updating Safety Standards

AGENCY: Research and Special Programs Administration (RSPA), DOT.

ACTION: Notice of proposed rulemaking.

SUMMARY: This notice proposes to clarify application of RSPA's safety standards for operation, maintenance, and fire protection of liquefied natural gas (LNG) facilities to certain existing facilties. In addition, this notice proposes to revise standards that contain incorrect cross-references, clarify training standards, and require annual reviews of plans and procedures. This notice also proposes to update present references to the National Fire Protection Association (NFPA) 59A standard to the 2001 edition of that standard. These actions are needed to remove ambiguities, assure that plans and procedures are up-to-date, and modernize present references to NFPA 59A. The changes would improve the clarity and effectiveness of RSPA's LNG facility safety standards.

DATES: Persons interested in submitting written comments on the rules proposed in this notice must do so by June 30, 2003. Late filed comments will be considered so far as practicable.

ADDRESSES: You may submit written comments by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Alternatively, you may submit written comments to the docket electronically at the following Web address: http://dms.dot.gov. All written comments should identify the docket and notice numbers stated in the heading of this notice. Anyone who wants confirmation of mailed comments must include a self-addressed stamped postcard. To file written comments electronically, after logging on to http://dms.dot.gov, click on “Comment/Submissions.” You can also read comments and other material in the docket at http://dms.dot.gov. General information about our pipeline safety program is available at http://ops.dot.gov.

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

FOR FURTHER INFORMATION CONTACT: L. M. Furrow by phone at 202-366-4559, by fax at 202-366-4566, by mail at U.S. Department of Transportation, 400 Seventh Street, SW., Washington, DC, 20590, or by e-mail at buck.furrow@rspa.dot.gov.

SUPPLEMENTARY INFORMATION:

Applicability

In the Federal Register of March 1, 2000 (65 FR 10950), RSPA published a final rule amending the safety standards in 49 CFR part 193 that govern liquefied natural gas facilities used in gas pipeline transportation. The final rule, which took effect March 31, 2000, replaced many existing standards on siting, design, construction, equipment, and fire protection with references to a consensus standard, NFPA 59A, “Standard for the Production, Storage, and Handling of Liquefied Natural Gas (LNG)” (1996 edition). However, as explained below, an amendment to § 193.2005, Applicability, inadvertently made the application of part 193 to existing LNG facilities unclear.

Before the final rule took effect, former § 193.2005(a)(1) ¹ exempted LNG facilities existing or under construction from any new or amended standards on siting, design, installation, or construction of LNG facilities. This exemption included standards in subpart B—Siting, subpart C—Design, subpart D—Construction, and subpart E—Equipment. In contrast, part 193 did not exempt LNG facilities existing or under construction from new or amended standards on operation or maintenance, including standards in subpart F—Operations, subpart G—Maintenance, subpart H—Personnel Qualifications and Training, subpart I—Fire Protection, and subpart J—Security. Applying these standards retroactively to existing facilities is consistent with the Congressional authorization to regulate the safe operation and maintenance of LNG facilities (49 U.S.C. 60103(d)).

¹ § 193.2005 Applicability. (a) New or amended standards in this part governing the siting, design, installation, or construction of an LNG facility and related personnel qualifications and training do not apply to: (1) LNG facilities under construction before the date such standards are published; or * * * (49 CFR 193.2005 (1999)).

However, as revised by the final rule, present § 193.2005(a) ² can be interpreted to exclude LNG facilities existing on March 31, 2000, from changes the final rule made to standards on operations, maintenance, and fire protection of LNG facilities. These changes affected §§ 193.2521, 193.2619(c), 193.2639(a) and subpart I—Fire Protection. Yet no such exclusion was intended. Although the preamble discussion of § 193.2005 indicated that “new requirements” would not apply to existing LNG facilities,³ the new requirements we intended were requirements on siting, design, installation, and construction of LNG facilities. Given our long-standing regulatory policy that part 193 operation, maintenance, and fire protection standards apply to all regulated LNG facilities, if we had intended to exclude certain facilities from these standards, we would have explained this change in policy. Neither the final rule nor the underlying notice of proposed rulemaking (63 FR 70735; Dec. 22, 1998) contains such an explanation.

² § 193.2005 Applicability. (a) Safety requirements mandating compliance with standard ANSI/NFPA 59A and other changes in this part governing siting, design, construction, equipment, fire protection, operation and maintenance apply to LNG facilities placed in service after March 31, 2000, unless otherwise noted. (49 CFR 2005 (2001)).

³ The final rule states: “This section 193.2005 has been restructured to clarify that new requirements apply to new and significantly altered LNG facilities after the effective date of this rule unless otherwise noted.” (65 FR 109502).

Therefore, we are proposing to revise present § 193.2005(a) as set forth below. The revision would clarify that LNG facilities existing or under construction are exempt only from new or amended standards on siting, design, installation, and construction of LNG facilities. We also intend this revision to clarify that §§ 193.2521, 193.2619(c), 193.2639(a) and subpart I—Fire Protection apply to LNG facilities existing or under construction on March 31, 2000.

Cross-references

Part 193 contains several sections with cross-references to sections in subpart I that were removed by the final rule published March 1, 2000. To correct this problem, we are proposing the following amendments:

Section 193.2503(h) requires that operating procedures provide for compliance with § 193.2805(b). However, § 193.2805(b) no longer exists. It concerned fire prevention procedures that are no longer required by part 193. So § 193.2503(h) would be removed.

Section 193.2507 requires that operators monitor buildings determined under § 193.2805(a)(2) in which a hazard to persons or property could exist to detect fire or any malfunction or flammable fluid that could cause a hazardous condition. Section 193.2805(a)(2), which was removed by the final rule, required operators to determine areas, as described in section 500-5 of NFPA 70 (1996 edition), where the potential exists for presence of flammable fluids. Although the cross-reference to § 193.2805(a)(2) would be removed from § 193.2507, operators would still have to monitor buildings in which a hazard to persons or property could exist. Operators could use the previously referenced NFPA 70 as a compliance guide.

Section 193.2509(b) requires operators to follow procedures in handling fire emergencies identified under § 193.2817(a). Section 193.2817(a), which no longer exists, required that operators determine the types and sizes of fires that could occur in or near an LNG plant and affect the safety of plant components. Although the reference to § 193.2817(a) would be removed, operators would still have to follow procedures in handling fire emergencies.

Section 193.2605(b)(2) requires that maintenance procedures describe actions needed to comply with § 193.2805. Section 193.2805 no longer exists. It concerned fire prevention plans that are not now required by part 193. So the cross-reference to § 193.2805 would be removed.

Section 193.2705(b) requires operators to determine periodically if inspectors are satisfactorily performing their duties assigned under § 193.2307. This section, which required certain inspections of construction, installation, and testing activities, was removed by the final rule as no longer necessary in view of inspection duties under NFPA 59A. Although the cross-reference to § 193.2307 would be removed, operators would still have to determine if construction, installation, and testing activities are being satisfactorily inspected.

Section 193.2717(a) requires operators to train their operating and maintenance personnel in various fire protection standards in subpart I that no longer exist:

• Paragraph (a)(1) requires training in fire prevention procedures under § 193.2805(b). Since part 193 no longer requires these procedures, paragraph (a)(1) would be removed.

• In paragraph (a)(2), the cross-reference to § 193.2805(a) would be removed, but operators would still have to train personnel to know the potential causes and areas of fire.

• In paragraph (a)(3), the cross-reference to § 193.2817(a) would be removed, but operators would still have to train personnel to know the types, sizes, and predictable consequences of fire.

• In paragraph (a)(4), the cross-reference to “equipment provided under § 193.2817” would be replaced by “equipment provided under § 193.2801.”

Plans and Procedures

Part 193 requires operators to prepare and follow written plans and procedures for various LNG plant activities. For example, plans are required for personnel health (§ 193.2711) and training (§§ 193.2713-193.2719), and procedures are required for operations (§ 193.2503), emergencies (§ 193.2509(b)), fluid transfers (§ 193.2513(a)), maintenance (§ 193.2605(b)), and security (§ 193.2903).

Under § 193.2017 operators must make their plans and procedures available for review by federal and state inspectors. Reviews by RSPA personnel have disclosed that while operators generally keep their plans and procedures up-to-date, not all plans and procedures are kept up-to-date. And outmoded plans and procedures can be a source of safety problems.

Our standards in 49 CFR part 192, which apply to gas pipelines serving LNG plants, address this potential safety problem by requiring operators to review and update their pipeline operating and maintenance procedures at intervals not exceeding 15 months, but at least once each calendar year (§ 192.605(a)). We think a similar requirement should apply to plans and procedures for LNG plants. Therefore, we are proposing to establish a new § 193.2017(c) to require annual reviews and updates of plans and procedures required by part 193.

Fire Drills

Section 193.2717 requires operators of LNG plants to train their operations and maintenance personnel in fire protection. The training must include “plant fire drills.” To meet this fire drill requirement, some operators use only tabletop exercises. We believe the exclusive use of such exercises is inconsistent with the ordinary meaning of “fire drill,” because tabletop exercises do not involve actual evacuation of buildings and performance of fire control duties. Therefore, to insure that proper fire drills are conducted, we are proposing to amend § 193.2717 to require that fire drills include evacuation of buildings and personnel performing fire control duties. See proposed § 193.2717(c) below.

NFPA 59A

At present, many sections in part 193 concerning siting, design, construction, equipment, fire protection, and operating and maintenance records incorporate by reference the 1996 edition of NFPA 59A, “Standard for the Production, Storage, and Handling of Liquefied Natural Gas (LNG).” However, the 1996 edition of the standard is now out-of-date and is no longer available in book form from NFPA. The latest edition, the 2001 edition, is available from NFPA either in book or electronic form by entering “59A” in the search block at http://www.nfpa.org/catalog.

There are several significant differences between the 1996 and 2001 editions. The 2001 edition:

1. Bases design on the concept of a maximum credible earthquake, in line with building codes used throughout country.

2. Allows use of the FEM3A model to calculate vapor dispersion distances. (Part 193 already allows use of this model).

3. Increases the frequency of inspecting and testing LNG tank relief valves.

4. Enhances chapter 10 requirements for plants with less than 300,000 gallons of storage. (We are not now proposing to incorporate chapter 10 by reference in part 193.)

5. Establishes operations and maintenance requirements. (We are not now proposing to incorporate these new requirements by reference in part 193.)

6. Adds appendices containing part 193 training and security standards.

We have considered the differences between the 1996 and 2001 editions of NFPA 59A and believe it is in the interest of LNG facility safety to amend Part 193 to reference the 2001 edition instead of the 1996 edition. This update would be accomplished by changing Appendix A to part 193 as set forth below. In addition, the specific reference to the 1996 edition in § 193.2019(a) would be replaced by a general reference to NFPA 59A. As indicated by § 193.2013(a), any general reference to NFPA 59A refers to the latest edition listed in Appendix A.

Regulatory Analyses and Notices

Executive Order 12866 and DOT Policies and Procedures

RSPA does not consider this proposed rulemaking to be a significant regulatory action under section 3(f) of Executive Order 12866 (58 FR 51735; Oct. 4, 1993). Therefore, the Office of Management and Budget (OMB) has not received a copy of this rulemaking to review. RSPA also does not consider this proposed rulemaking to be significant under DOT regulatory policies and procedures (44 FR 11034: February 26, 1979).

We prepared a Draft Regulatory Evaluation of the proposed rules and a copy is in the docket. The evaluation concludes there should be only minimal additional cost, if any, for operators to comply with the proposed rules. If you disagree with this conclusion, please provide information to the public docket described above.

Regulatory Flexibility Act

Under the Regulatory Flexibility Act (5 U.S.C. 601 et seq.), RSPA must consider whether a rulemaking would have a significant economic impact on a substantial number of small entities. The proposed rules are consistent with customary practices in the gas pipeline industry. Therefore, based on the facts available about the anticipated impacts of this proposed rulemaking, I certify that this proposed rulemaking would not have a significant impact on a substantial number of small entities. If you have any information that this conclusion about the impact on small entities is not correct, please provide that information to the public docket described above.

Executive Order 13175

The proposed rules have been analyzed in accordance with the principles and criteria contained in Executive Order 13084, “Consultation and Coordination with Indian Tribal Governments.” Because the proposed rules would not significantly or uniquely affect the communities of the Indian tribal governments and would not impose substantial direct compliance costs, the funding and consultation requirements of Executive Order 13084 do not apply.

Paperwork Reduction Act

Title: Recordkeeping for LNG Facilities.

Summary: Section 193.2017(c) proposes to add a minor information collection requirement to already existing information collection requirements. Operators would be required to review and update the plans and procedures required by part 193 at intervals not exceeding 15 months, but at least once each calendar year. However, we believe most operators routinely carry out reviews and updates during the course of executing their plans and procedures. So we believe the burden of complying with the proposed review-and-update requirement would be minimal. Because the additional paperwork burden of this proposed rule is likely to be minimal, we believe that submitting an analysis of the burdens to OMB under the Paperwork Reduction Act is unnecessary. If you disagree with this conclusion, please submit your comments to the public docket.

Use: Records are kept to facilitate personnel training and other LNG plant activities.

Respondents (including the number of): There are 150 gas pipeline operators.

OMB Control Number: 2137-0048.

Average burden estimate per operator: 126.7 hours per year.

Annual Burden Estimate: 19,000 hours per year.

Frequency: Annual.

Unfunded Mandates Reform Act of 1995

This proposed rulemaking would not impose unfunded mandates under the Unfunded Mandates Reform Act of 1995. It would not result in costs of $100 million or more to either State, local, or tribal governments, in the aggregate, or to the private sector, and would be the least burdensome alternative that achieves the objective of the rule.

National Environmental Policy Act

We have analyzed the proposed rules for purposes of the National Environmental Policy Act (42 U.S.C. 4321 et seq.). Because the proposed rules parallel present requirements or practices, we have preliminarily determined that the proposed rules would not significantly affect the quality of the human environment. An environmental assessment document is available for review in the docket. A final determination on environmental impact will be made after the end of the comment period. If you disagree with our preliminary conclusion, please submit your comments to the docket as described above.

Executive Order 13132

The proposed rules have been analyzed in accordance with the principles and criteria contained in Executive Order 13132 (“Federalism”). The proposed rules do not propose any regulation that (1) has substantial direct effects on the States, the relationship between the national government and the States, or the distribution of power and responsibilities among the various levels of government; (2) imposes substantial direct compliance costs on State and local governments; or (3) preempts State law. Therefore, the consultation and funding requirements of Executive Order 13132 do not apply.

List of Subjects in 49 CFR Part 193

Pipeline safety, Fire prevention, Security measures, Reporting and recordkeeping requirements.

Accordingly, we are proposing the following amendments to 49 CFR part 193:

1. The authority citation for part 193 continues to read as follows:

Authority: 49 U.S.C. 5103, 60102, 60103, 60111, 60118 and 49 CFR 1.53.

2. Revise § 193.2005(a) to read as follows:

§ 193.2005 Applicability.

(a) Standards in this part governing siting, design, installation, or construction of LNG facilities do not apply to LNG facilities existing or under construction before the date such standards take effect under this part.

* * * * *

3. Add § 193.2017(c) to read as follows:

§ 193.2017 Plans and procedures.

* * * * *

(c) Each operator must review and update the plans and procedures required by this part at intervals not exceeding 15 months, but at least once each calendar year.

4. Remove the parenthetical expression “(1996 edition)” from § 193.2019(a).

5. Amend § 193.2503 as follows:

a. In paragraph (e), remove the semicolon and add a period in its place;

b. In paragraph (g), remove the semicolon and the word “and” and add a period in the place of the removed semicolon; and

c. Remove paragraph (h).

6. Revise the first sentence of § 193.2507 to read as follow:

§ 193.2507 Monitoring operations.

Each component in operation or building in which a hazard to persons or property could exist must be monitored to detect fire or any malfunction or flammable fluid that could cause a hazardous condition. * * *

7. Revise the first sentence of § 193.2509(b) introductory text to read as follows:

§ 193.2509 Emergency procedures.

* * * * *

(b) To adequately handle each type of emergency identified under paragraph (a) of this section and each fire emergency, each operator shall follow one or more manuals of written procedures. * * *

* * * * *

8. Revise § 193.2605(b)(2) to read as follows:

§ 193.2605 Maintenance procedures.

* * * * *

(b) * * *

(2) A description of other actions necessary to maintain the LNG plant in accordance with the requirements of this subpart.

* * * * *

9. Revise § 193.2705(b) to read as follows:

§ 193.2705 Construction, installation, inspection, and testing.

* * * * *

(b) Each operator must periodically determine whether inspectors performing construction, installation, and testing duties required by this part are satisfactorily performing their assigned functions.

10. In § 193.2717, revise paragraph (a) and add paragraph (c) to read as follows:

§ 193.2717 Training: fire protection.

(a) All personnel involved in maintenance and operations of an LNG plant, including their immediate supervisors, must be trained in accordance with a written plan of initial instruction, including plant fire drills, to:

(1) Know the potential causes and areas of fire;

(2) Know the types, sizes, and predictable consequences of fire; and

(3) Know and be able to perform their assigned fire control duties according to the procedures established under § 193.2509 and by proper use of equipment provided under § 193.2801.

* * * * *

(c) Plant fire drills must include—

(1) Evacuation of buildings; and

(2) Personnel performing fire control duties.

11. In section II. E. 1. of Appendix A to Part 193, remove the parenthetical expression “(1996 edition)” and add the parenthetical expression “(2001 edition)” in its place.

Issued in Washington, DC on April 25, 2003.
Stacey Gerard,
Associate Administrator for Pipeline Safety.

[FR Doc. 03-10689 Filed 4-30-03; 8:45 am]

BILLING CODE 4910-60-P